DEPARTMENT OF LABOR

Employment and Training Administration

Notice of Determinations Regarding Eligibility To Apply for Worker Adjustment Assistance and NAFTA Transitional Adjustment Assistance

In accordance with Section 223 of the Trade Act of 1974, as amended, the Department of Labor herein presents summaries of determinations regarding eligibility to apply for trade adjustment assistance for workers (TA-W) issued during the period of March, 2000.

In order for an affirmative determination to be made and a certification of eligibility to apply for worker adjustment assistance to be issued, each of the group eligibility requirements of Section 222 of the Act must be met.

(1) That a significant number of proportion of the workers in the workers' firm, or an appropriate subdivision thereof, have become totally or partially separated,

(2) That sales or production, or both, of the firm of sub-division have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-37, 194; Simonds Industries, Newcomerstown, OH

TA-W-37, 281; Appleton Papers, Inc., Harrisburg Plant, Camp Hill, PA

TA-W-37, 308; Tweco Products, A subsidiary of Thermadyne Holdings Corp., Wichita, KS

TA-W-37, 209; Agco Corp., Coldwater, OH

TA-W-37, 045; Atlas Tubular, Inc., Robstown, TX

TA-W-37, 357; Alliant Techsystems, Inc., Totowa, NJ

TA-W-37, 314; Shell Chemical Co., Point Pleasant Polyester Plant, Apple Grove, WV

TA-W-37, 241; Contour Energy Co., (Previousely Kelley Oil and Gas Corp), Houston, TX

In the following cases, the investigation revealed that the criteria for eligibility have not been met for the reasons specified.

TA-W-37, 345; Sause Bros/South Oregon Marine, Inc., Coos Bay, OR

TA-W-37, 168; North Star Steel Kentucky, Inc., Calvert City, KY

TA-W-37, 303; Motor Coils Manufacturing, Emporium, PA

TA-W-37, 393; Preston Trucking Co., Pittsburgh, PA

TA-W-37, 394; Corporate Expressions Group, Ltd, Salisbury, NC

TA-W-37, 224; Foster Wheeler Constructors, Inc., Playas, NM

TA-W-37, 367; KeyBank USA, Retail Collection and Recovery Dept, Albany, NY

TA-W-37, 130A; Hamilton Sunstrand Plant #6, East Windsor, CT

The workers firm does not produce an article as required for certification under Section 222 of the Trade Act of 1974.

TA-W-37, 354; ITW Signode Metals, Weirton, WV

TA-W-37, 297; Smiley Container Plant of Russell Stover Candies, Inc., Poplar Bluff, MO

TA-W-37, 296; BICC General, Williamstown, MA

TA-W-37, 969; Louisiana Pacific Corp., Ketchikan Pulp Co., Ketchikan Pulp Mill, Ketchikan, AK

TA-W-37, 306; Ordovician Association, Midland, TX

TA-W-37, 130; Hamilton Sunstrand, Plant #3, Windsor Locks, CT

TA-W-37, 054; Kearfott Guidance & Navigation Corp., Wayne, NJ

TA-W-37, 300; Award Window, Inc., Ferndale, WA

TA-W-37, 351; B. Braun Medical, Inc., Medical Div., St. Clair, PA

TA-W-37, 190; Tempset, Inc., St. Louis, MO

TA-W-37, 067; Packaging Corp. of America (formerly Tenneco Packaging), South Brunswick, NJ

TA-W-37, 347; Devro-Teepak, Inc., Plastic Converting Dept. Danville, IL

TA-W-37, 427; Kongsberg Automotive, Livonia, MI

TA-W-37, 302; Schmalbach-Lubec Plastic Containers USA, Inc., Novi, MI

TA-W-37, 243; Whizard Protective Wear Corp., Birmingham, OH

Increased imports did not contribute importantly to worker separations at the firm.

TA-W-37, 307; Vivid Publishing, Inc., Montoursville, PA

The investigation revealed that criteria (2) and criteria (3) have not been met. Sales or production did not decline during the relevant period as required for certification. Increases of imports of articles like or directly competitive with articles produced by the firm or an appropriate subdivision have not contributed importantly to the separations or threat thereof, and the absolute decline in sales or production.

TA-W-37, 225 & A; Middle Bay Oil Co., Inc., Wichita, KS and Houston, TX

The investigation revealed that criteria (2) has not been met. Sales or production did not decline during the relevant period as required for certification.

Affirmative Determinations for Worker Adjustment Assistance

The following certifications have been issued; the date following the company name and location of each determination references the impact date for all workers of such determination.

TA-W-37, 114; ASARCO, Inc., Leadville, CO: November 10, 1998

TA-W-37, 328; Thaw Corp. Snow Creek Div, Wenatchee, WA: January 28, 1999.

TA-W-37, 321; Cedar Brook Mfg Corp., Burnett Mfg Div., Philadelphia, PA: January 29, 1999.

TA-W-37, 271; Dynamic Detail, Inc., Colorado Springs, CO: January 11, 1999.

TA-W-37, 350; Scotts Hill Leisurewear, Scotts Hill, TN: January 26, 1999.

TA-W-37, 341 & A; Komag, Inc., San Jose, CA and Santa Clara, CA: January 19, 1999

TA-W-37, 227; Noblesville Casting, Inc., Noblesville, IN: December 29, 1998.

TA-W-37, 326; Monterey, Inc., The Mill and Consumer Products Div. Janesville, WI: January 25, 1999

TA-W-37, 287; American Timber, Olney, MT: January 1999.

TA-W-37,255; Otis Elevator Co., Bloomington, IN: January 7, 1999.

TA-W-37,199; Sulzer Pumps, Portland, OR: December 7, 1999.

TA-W-37,220; The Owenby Co., Sports Stuf Apparel, Inc., Tellico Plains, TN: December 21, 1998.

TA-W-37,283; The Nordic Group LLC, Hubbard, OR: January 12, 1999.

TA-W-37,315; The Nordic Group LLC, Vancouver, WA: January 25, 1999.

TA-W-37,336; ISA Cutting Room Service, El Paso, TX: February 4, 1999.

TA-W-37,282; Hewlett Packard Co., Vancouver Div., Vancouver, WA: March 20, 2000.

TA-W-37,276; Gatesville Walls Industries, Inc., Gatesville, TX: January 12, 1999.

TA-W-37,398; Kenro, Inc., A Carlisle Co., Fiberglass Div., Fredonia, WI: February 17, 1999.

TA-W-37,270; Charles Industries Ltd, Jasonville, IN: January 11, 1999.

TA-W-37,364 & A; Robinson Mfg Co., Inc., Madisonville, TN and Gruethi-Laager, TN: December 13, 1998.

TA-W-37,275; Walls Industries, Inc., Carthage, MO: January 4, 1999.

TA-W-37,360; GEO Drilling Fluids, Bakersfield, CA: February 7, 1999.

TA-W-37,343 & A; Ro-An Jewelry, Johnston, RI and Carol Pearl Co., Johnston, RI: February 2, 1999.

TA-W-37,358; Epson Portland, Inc., Hillsboro, OR: February 11, 1999.

TA-W-37,266; Tecumseh Products Co., Trenton, TN: January 7, 1999.

TA-W-37,356; U.S. Electrical Motors, Div. of Emerson Electric Co., Philadelphia, PA: January 31, 1999.

TA-W-37,311; Gale River Designs Ltd, Franconia, NH: January 26, 1999.

TA-W-37,231; Laurel Mould, Inc., Jeannette, PA: December 15, 1999.

TA-W-37,223; Linden Apparel, Inc., Allentown, PA: December 22, 1998.

TA-W-37,288; Custom Packaging Systems, Inc., Sewn Bag Dept, Manistee, MI: January 11, 1999.

Also, pursuant to Title V of the North American Free Trade Agreement Implementation Act (Pub. L. 103-182) concerning transitional adjustment assistance hereinafter called (NAFTA-TAA) and in accordance with Section 250(a), Subchapter D, Chapter 2, Title II, of the Trade Act as amended, the Department of Labor presents summaries of determinations regarding eligibility to apply for NAFTA-TAA issued during the month of March, 2000.

In order for an affirmative determination to be made and a certification of eligibility to apply for NAFTA-TAA the following group eligibility requirements of Section 250 of the Trade Act must be met:

(1) That a significant number or proportion of the workers in the workers' firm, or an appropriate subdivision thereof (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases in ports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-03704; Linden Apparel, Inc., Allentown, PA

NAFTA-TAA-03775; Award Windows, Inc., Ferndale, WA

NAFTA-TAA-03668; Barrick Goldstrike, Inc., Elko, NV

NAFTA-TAA-03640; The Boeing Company, Melbourne, AR

NAFTA-TAA-03722; ITT Industries, Jabsco, Springfield, OH

NAFTA-TAA-03653; Goss Graphics Systems, Inc., Wyomissing, PA

NAFTA-TAA-03729; American Sewn Products, Bremerton, WA

NAFTA-TAA-03676; BICC General, Williamstown, MA

NAFTA-TAA-03621, Tempset, Inc., St. Louis, MO

The investigation revealed that the criteria for eligibility have not been met for the reasons specified.

NAFTA-TAA-3740; Preston Trucking Co., Pittsburgh, PA

NAFTA-TAA-03724; KeyBank USA, Retail Recovery and Collection Dept., Albany, NY

NAFTA-TAA-03688; Motor Coils Manufacturing, Emporium, PA

NAFTA-TAA-03735; Corporate Expressions Group, Ltd, Salisbury, NC

NAFTA-TAA-03579; North Star Steel Kentucky, Inc., Calvert City, KY

NAFTA-TAA-03714; Eastman Kodak Co., US & Canada Region Customer Order Services Operations, Rochester, NY

NAFTA-TAA-03756; Vermont Castings Majestic Products Co., Huntington, IN

NAFTA-TAA-03786; Royal Bank of Canada, Credit Administration, New York, NY

The investigation revealed that workers of the subject firm did not produce an article within the meaning of Section 250(a) of the Trade Act, as amended.

Affirmative Determinations NAFTA-TAA

NAFTA-TAA-03637; Laurel Mould, Inc., Jeannette, PA: December 15, 1998.

NAFTA-TAA-03349; New Tees Manufacturing, Greeleyville, SC: July 27, 1998.

NAFTA-TAA-03768; Donaldson Co., Inc., Oelwein, IA: January 18, 1999.

NAFTA-TAA-03674; Florence Eiseman, Milwaukee, WI: January 18, 1999.

NAFTA-TAA-03682; Colorado Greenhouse, Estancia, NM: January 19, 1999.

NAFTA-TAA-03778; Caretek, Inc., Denver, CO: February 28, 1999.

NAFTA-TAA-03728; Sullivan Die Casting, Inc., Kenilworth, NJ: February 9, 1999.

NAFTA-TAA-03717; Mitec Wireless, Inc., Tinton Falls, NJ: January 21, 1999.

NAFTA-TAA-03661; Fasco Motors, Eldon, MO: January 3, 1999.

NAFTA-TAA-03706; Danskin, Inc., York, PA: February 1, 1999.

NAFTA-TAA-03744; Kenro, Inc., A Carlisle Co., Fiberglass Div., Fredonia, WI: February 21, 1999.

NAFTA-TAA-03687; Hewlett Packard Co., Vancouver Div., Vancouver, WA: March 20, 2000.

NAFTA-TAA-03746; Brunswick Bicycles, Olney, IL: February 28, 1999.

NAFTA-TAA-03701; Monterey, Inc., The Mill and Consumer Products Div., Janesville, WI: January 25, 1999.

NAFTA-TAA-03379; Sun Country Industries, Albuquerque, NM: August 5, 1998.

NAFTA-TAA-03662; Gatesville Walls Industries, Inc., Gatesville, TX: January 12, 1999.

NAFTA-TAA-03699; Griffin Pipe Products Co., Lynchburg, VA: January 31, 1999.

NAFTA-TAA-03752; Epson Portland, Inc., Hillsboro, OR: February 22, 1999.

NAFTA-TAA-03696; North Carolina Embroidery Co., High Point, NC: January 28, 1999.

NAFTA-TAA-03707; Custom Packaging Systems, Inc., Sewn Bag Dept., Manistee, MI: January 11, 1999.

NAFTA-TAA-03663; Walls Industries, Inc., Carthage, MO: January 4, 1999.

I hereby certify that the aforementioned determinations were issued during the month of March, 2000. Copies of these determinations are available for inspection in Room C-4318, U.S. Department of Labor, 200 Constitution Avenue, NW, Washington, DC 20210 during normal business hours or will be mailed to persons who write to the above address.

Dated: March 23, 2000.
Grant D. Beale,
Program Manager, Division of Trade Adjustment Assistance.

[FR Doc. 00-7981 Filed 3-30-00; 8:45 am]

BILLING CODE 4510-30-M